DEPARTMENT OF THE INTERIOR

Bureau of Land Management

[LLOR050000, L58740000 EU0000, LXSS058H0000; HAG-10-0044]

Notice of Realty Action; Competitive Sale of Public Land in Deschutes County, Oregon

AGENCY: Bureau of Land Management, Interior.

ACTION: Notice of realty action.

SUMMARY: This notice announces a comment period and proposed sale of five parcels of public land totaling 640 acres located in Deschutes County, Oregon, at not less than the appraised market value through competitive bidding. The sale will be conducted by the United States General Services Administration (GSA) as an online auction, at GSA's Web site http://www.auctionrp.com.

DATES: This notice initiates the public comment period and any person may submit written comments regarding the proposed sale. All comments must be received on or before June 28, 2010. Comments must reference a specific parcel number and the applicable Bureau of Land Management (BLM) serial number.

ADDRESSES: Address all written comments to Molly Brown, Deschutes Field Manager, BLM Prineville District Office, 3050 East Third Street, Prineville, Oregon 97754. Only written comments submitted through the U.S. Postal Service or other delivery service, or hand-delivered to the BLM Prineville District Office will be considered properly filed. Electronic mail, facsimile, or telephone comments will not be considered properly filed.

FOR FURTHER INFORMATION CONTACT: Philip Paterno, BLM Realty Specialist, at (541) 416-6724, or by e-mail, (or_land_sale@blm.gov). Detailed information regarding the five parcels can be found at the BLM Web site: http://www.blm.gov/or/districts/prineville/plans/fltfa.php.

SUPPLEMENTARY INFORMATION: The following described public land parcels have been identified for disposal in the BLM Brothers-La Pine Resource Management Plan (RMP) and Record of Decision (ROD) dated July 1989, and in the BLM Upper Deschutes RMP and ROD dated September 2005. The parcels are proposed for sale under Sections 203 and 209 of the Federal Land Policy and Management Act (FLPMA) of 1976 (90 Stat. 2750, 43 U.S.C. 1713 and 1719). The sales will include all mineral interests of the United States since a determination of no known mineral value has been made based on an approved mineral report. The conveyance document will be issued subject to all valid existing rights and reservations of record. The parcels will be sold by competitive sale at not less than the appraised market value, as approved by the Department of the Interior, Appraisal Services Directorate. The properties are described as follows and include the appurtenant encumbrances:

Parcel 1, La Pine, 120 acres, BLM Serial Number OR-65290, Willamette Meridian, Oregon, T. 21 S., R. 10 E., Section 34, SW¼SE¼, E½SE¼; TL4400. The address for this timbered parcel is 52450 Meadow Lane, La Pine. It has a county-approved partition plat and is recognized by the county as a legal lot of record with permitted access to the adjacent county road. It has county approval for an onsite wastewater treatment system and is zoned by the county for residential development. This parcel is in a rural residential neighborhood near the community of La Pine with paved, county road frontage on two sides and utilities along the property lines. Encumbrances include rights-of-way to: (1) Deschutes County for Burgess Road and Meadow Lane serialized OR-51362; (2) Mid-State Electric Cooperative, Inc. for aerial electric distribution lines serialized OR-66111; and (3) Qwest Corporation for buried telephone cable serialized OR-66112.

Parcel 2, La Pine, 80 acres, BLM Serial Number OR-65330, Willamette Meridian, Oregon, T. 21 S., R. 10 E., Section 33, W½SE¼; TL 4000. This timbered property is zoned by the county as Forestry, F-2. It is recognized by the county as a legal lot of record with potential for development. This parcel is in a rural residential neighborhood near the community of La Pine with legal access provided by county roads and utilities to the property line.

Parcel 3, Bend North, 40 acres, BLM Serial Number OR-65379, Willamette Meridian, Oregon, T. 16 S., R. 12 E., Section 34, SE¼NE¼; TL 100. This parcel is recognized by the county as a legal lot of record with potential for development. Encumbrances include rights-of-way to: (1) The Burlington Northern Santa Fe Railway Company, authorized by the Act of March 3, 1875, serialized TD-05864; (2) Pilot Butte Irrigation District (currently the Central Oregon Irrigation District) for an irrigation canal right-of-way, serialized TD-02036; (3) Pacific Power for a 115KV electrical transmission line serialized OR-17337; (4) Quantum Communications, LLC, for an underground fiber optic cable serialized OR-54822; and, (5) an Easement Deed to the Oregon Department of Transportation for Highway 97 serialized OR-45850.

Parcel 4, Redmond, Yucca Avenue, 80 acres, BLM Serial Number OR-65343, Willamette Meridian, Oregon, T. 14 S., R. 12 E., Section 34, E½SE¼; TL 4100. This parcel is recognized by the county as a legal lot of record with potential for development. There is county road frontage along Yucca Avenue with the south right-of-way line coincident with the north line of this property. Northwest (NW) 83rd Street was dedicated to the public as a 60-foot-wide right-of-way and has been accepted as a public road. According to the County Surveyors' Office, the west right-of-way line of NW 83rd may be coincident with the east line of the subject tax lot, depending on the interpretation of the original deed.

Parcel 5, West Redmond, 320 acres, BLM Serial Number OR-65758, Willamette Meridian, Oregon, T. 15 S., R. 12 E., Section 2, SW¼NE1/4, N½SW¼, SW¼SW¼; T. 15 S., R. 12 E., Section 3, SE¼NW¼, N½SE¼; T. 15 S., R. 12 E., Section 11, NW¼NW¼. This parcel is recognized by the county as a legal lot of record with potential for development. The property has paved county road frontage in three locations and is adjacent to rural residential and agricultural areas. It is characterized as mature, juniper woodland offering panoramic mountain vistas. Encumbrances include rights-of-way to: (1) Deschutes County for Tetherow Road or 74th Street, serialized OR-51362; (2) Central Electric Cooperative, Inc. for a power line adjacent to Tetherow Road serialized OR-45343.

No representation, warranty, or covenant of any kind, express or implied, is given or made by the United States as to access to or from any parcel of land, the title, whether or to what extent the land may be developed, its physical condition, present or potential uses, or any other circumstance or condition. All persons, other than the successful bidders, claiming to own unauthorized improvements on the land are allowed 60 days from the date of sale to remove the improvements. The following rights, reservations, and conditions will be included in all of the conveyance documents for the subject parcels:

a. A right-of-way for ditches and canals constructed by authority of the United States pursuant to the Act of August 30, 1890 (43 U.S.C. 945);

b. A condition that the conveyance be subject to all valid existing rights of record;

c. The purchaser/patentee, by accepting a patent, covenant and agree to indemnify, defend, and hold the United States harmless from any costs, damages, claims, causes of action, penalties, fines, liabilities, and judgments of any kind or nature arising from the past, present, and future acts or omissions of the patentee or their employees, agents, contractors, or lessees, or any third party, arising out of or in connection with the patentees' use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of Federal, State, and local laws and regulations that are now or may in the future become, applicable to the real property; (2) Judgments, claims, or demands of any kind assessed against the United States; (3) Costs, expenses, or damages of any kind incurred by the United States; (4) Releases or threatened releases of solid or hazardous waste(s) and/or hazardous substances(s), as defined by Federal or State environmental laws, off, on, into, or under land, property and other interests of the United States; (5) Activities by which solid waste or hazardous substances or waste, as defined by Federal and State environmental laws are generated, released, stored, used or otherwise disposed of on the patented real property, and any cleanup response, remedial action or other actions related in any manner to said solid or hazardous substances or wastes; or (6) Natural resource damages as defined by Federal and State law. This covenant shall be construed as running with the parcels of land patented or otherwise conveyed by the United States, and may be enforced by the United States in a court of competent jurisdiction; and

d. Additional terms and conditions that the authorized officer deems appropriate. On May 13, 2010, the above-described lands will be segregated from all forms of appropriation under the public land laws, including the mining laws, except the sale provisions of FLPMA. Until completion of the sale or termination of the segregation, the BLM is no longer accepting land use applications affecting the identified public lands, except applications for the amendment of previously filed rights-of-way applications or existing authorizations to increase the term of the grants in accordance with 43 CFR 2807.15 and 2886.15. The segregative effect will terminate upon issuance of a patent, publication in the Federal Register of a termination of the segregation, or May 14, 2012, unless extended by the BLM Oregon/Washington State Director in accordance with 43 CFR 2711.1-2(d) prior to the termination date.

Federal law requires that public land be sold only to either: (1) Citizens of the United States 18 years of age or older; (2) corporations subject to the laws of any State or the United States; (3) other entities such as associations and partnerships capable of holding lands or interests therein under the laws of the State within which the lands are located; or (4) States, State instrumentalities, or political subdivisions authorized to hold property. Certifications and evidence to this effect will be required of the purchaser prior to issuance of conveyance documents.

A successful bid on a parcel constitutes an application for conveyance of those mineral interests offered under the authority of Section 209(b) of the FLPMA. In addition to the full purchase price, a non-refundable fee of $50 will be required from the prospective purchaser for purchase of the mineral interests to be conveyed simultaneously with the sale of the land.

The FLPMA and its implementing regulations (43 CFR subpart 2710) provide that competitive bidding will be the general method of selling public lands. The parcels will be sold through an on-line auction conducted by the GSA. The auction will begin on or about July 12, 2010, via the GSA auction Web site http://www.auctionrp.com. A copy of the maps and the Invitation for Bid (IFB) package will be available at the BLM Web site http://www.blm.gov/or/districts/prineville/plans/fltfa.php. The IFB contains property information, bidding instructions, bidder qualifications, minimum bid values, bid forms, required bid deposits, and other sale terms. Copies of the IFB will also be available at the BLM Prineville District Office, 3050 NE Third Street, Prineville, Oregon. The bid closing date will be determined by bidding activity. If parcels are not sold using the on-line Web-based auction, a notice may be posted on the GSA Web site, http://www.auctionrp.com, directing interested parties to an alternative bidding procedure. The parcels will not be sold until at least July 12, 2010. Comments, including names, street addresses, and other contact information of respondents will be available for public review during regular business hours at the address below. Before including your address, phone number, e-mail address, or other personal identifying information in your comment, you should be aware that your entire comment—including your personal identifying information—may be made publicly available at any time. While you can ask us in your comment to withhold your personal identifying information from public review, we cannot guarantee that we will be able to do so.

Comments will be reviewed by the BLM Prineville District Manager, who may sustain, vacate, or modify this realty action. In the absence of any objections, this realty action will become the final determination of the Department of the Interior.

Deborah Henderson-Norton,
District Manager.

Authority: 43 CFR 2711.1-2.

[FR Doc. 2010-11483 Filed 5-12-10; 8:45 am]

BILLING CODE 4310-33-P